DEPARTMENT OF THE TREASURY

Internal Revenue Service

Open Meeting of the Taxpayer Advocacy Panel's Toll-Free Phone Lines Project Committee; Correction

AGENCY: Internal Revenue Service (IRS), Treasury.

ACTION: Notice of meeting: correction.

SUMMARY: In the Federal Register that was originally published on June 11, 2025, the Designated Federal Officer signing this document is being changed to John A. Lipold. All other meeting details remain unchanged. This meeting will be held as a virtual video conference via the Microsoft Teams platform.

DATES: The meeting will be held on Tuesday, July 8, 2025, at 3:00 p.m. Eastern Time.

FOR FURTHER INFORMATION CONTACT: Rosalind Matherne at 1-888-912-1227, 202-317-4115, or by email at taxpayer.advocacy.panel@irs.gov.

SUPPLEMENTARY INFORMATION: Notice is hereby given pursuant to Section 10(a)(2) of the Federal Advisory Committee Act, 5 U.S.C. App. (1988), that an open meeting of the Taxpayer Advocacy Panel Toll-Free Phone Lines Project Committee will be held on Tuesday, July 8, 2025, at 3:00 p.m. Eastern Time.

The public is invited to attend the meeting virtually, or by phone, and may provide oral comments or submit written statements for consideration. Due to meeting structure and time limitations, advance registration is required to attend or make public comments during the meeting. To register and receive meeting access information, please contact Rosalind Matherne at the contact information above no later than Thursday, July 3, 2025.

Meeting materials, including the agenda and any handouts, will be made available prior to the meeting at www.improveirs.org.

The agenda will include a committee discussion of new and continuing issues and other activities related to the new TAP year.

Dated: July 7, 2025.
John A. Lipold,
Designated Federal Official, Taxpayer Advocacy Panel.

[FR Doc. 2025-13088 Filed 7-11-25; 8:45 am]

BILLING CODE 4830-01-P